DEPARTMENT OF THE INTERIOR

Geological Survey

[GX15CC009UKWG00]

Agency Information Collection Activities: Request for Comments

AGENCY: U.S. Geological Survey (USGS), Department of the Interior.

ACTION: Notice of a new information collection, State Water Use Cooperative Funding Application

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before September 21, 2015.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-NEW, `State Water Use Cooperative Funding Application' in all correspondence.

FOR FURTHER INFORMATION CONTACT: Melinda Dalton, USGS, at (678) 924-6637 or msdalton@usgs.gov.

SUPPLEMENTARY INFORMATION:

I. Abstract

The USGS is working with State Water Resource agencies to operate a Water Use Data and Research program (WUDR). Section 9508 of the SECURE Water Act directs the Secretary of the Interior to administer grants to State water resource agencies to assist in developing water use and availability datasets that are integrated with each appropriate dataset developed or maintained by the Secretary or grants that integrate any water use or water availability dataset of the State water resource agency into each appropriate dataset developed or maintained by the Secretary. Responsibility for administration of this State Water Use Grants program has been delegated to the U.S. Geological Survey. State Water Use Grants will be used to improve the collection and reporting of water use categories by State agencies, including the inclusion of categories that have been discontinued in the past due to limited resources. The total authorized funding for the State Water Use Grants program is $12,500,000 for a period of five years.

In FY15 grant funds will be awarded non-competitively, with all 50 states receiving awards ($26,000 each) to develop workplans that outline priorities for use of grant funds, with the goal of States reporting, to the USGS, withdrawal and ancillary information for each major category of water use that improve national water withdrawal and consumptive use estimates. The USGS has developed a draft baseline standard table for all water use categories and will require that States identify current data collection levels (tiers) for each category as part of workplan development. States will be required to use these standards to identify categories for improvement in data collection and/or research activities that improve data estimation techniques nationally. For States that already meet the baseline standards, goals are provided in Tier 2 and 3 for additional data that would benefit national estimates and provide information for water availability studies by water managers, academia, federal, and or local agencies. In order to receive awards as part of the competitive process beginning in FY16, States must submit a completed workplan.

Beginning in FY16 grant funds will be announced and awarded as part of a competitive process that will be guided, annually, by a technical committee whose members will include representatives from the stakeholder community as well as USGS. State Grant funds will be coordinated with a single agency in each State and the USGS is working, through the USGS Regional Water Use Specialists, to identify which agencies will be the lead contact in each State. Collaboration and coordination with USGS personnel will be required as part of the Grants program. Data must be stored electronically and made available at the HUC-8 and county level in formats appropriate for existing USGS databases. Additionally, methods used for data collection (estimated values, coefficients, etc.) and a description of data quality assurance and control will be required.

II. Data

OMB Control Number: 1028-NEW.

Title: State Water Use Cooperative Funding Application.

Type of Request: New information collection.

Affected Public: State water-resource agencies who collect water use data.

Respondent's Obligation: Mandatory to be considered for funding.

Frequency of Collection: Annually.

Estimated Annual Number of Respondents: 52.

Estimated Total Number of Annual Responses: 52.

Estimated Time per Response: 40 hours to prepare the proposal. This includes time to review the WUDR Guidance Document to understand the program design and requirements for data providers.

Estimated Annual Burden Hours: 2080.

Estimated Reporting and Recordkeeping “Non-Hour Cost” Burden: None.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Sonya Jones,
Program Coordinator, Water Availability and Use Program.

[FR Doc. 2015-18057 Filed 7-22-15; 8:45 am]

BILLING CODE 4311-AM-P